DEPARTMENT OF COMMERCE

National Oceanic and Atmospheric Administration

[I.D. 052802A]

Proposed Information Collection; Comment Request; Requirements for Taking Endangered or Threatened Species for Research/ Enhancement Purposes

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506 (c)(2)(A)).

DATES: Written comments must be submitted on or before July 30, 2002.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument(s) and instructions should be directed to Lillian Becker or Lamont Jackson at (301)713-2289, National Marine Fisheries Service, 1315 East-West Highway, Silver Spring, MD 20910-3226.

SUPPLEMENTARY INFORMATION:

I. Abstract

The Endangered Species Act of 1973 (ESA; 16 U.S.C. 1531 et. seq.) imposed prohibitions against the taking of endangered species. Section 10 of the ESA allows permits authorizing the taking of endangered species for research/enhancement purposes. The corresponding regulations established procedures for persons to apply for such permits. In addition, the regulations set forth specific reporting requirements for such permit holders.

The regulations contain two sets of information collections: (l) applications for research/enhancement permits, and (2) reporting requirements for permits issued.

The required information is used to evaluate the impacts of the proposed activity on endangered species, to make the determinations required by the ESA prior to issuing a permit, and to establish appropriate permit conditions. In order to issue permits as under ESA section 10(a)(1)(A), the National Marine Fisheries Service (NMFS) must determine that(1) such exceptions were applied for in good faith, (2) if granted and exercised will not operate to the disadvantage of such endangered species, and (3) will be consistent with the purposes and policy set forth in section 2 of the ESA.

II. Method of Collection

The collection of information will be in the form of applications, annual reports, and final reports responding to requirements in regulations and instructions; no forms are required.

III. Data

OMB Number: 0648-0402.

Form Number: None.

Type of Review: Regular submission.

Affected Public: Non-profit institutions; state, local, or tribal government; and businesses or other for-profit organizations.

Estimated Number of Respondents: 175.

Estimated Time Per Response: 40 hours for permit applications; 20 hours for permit modification requests; 10 hours for annual reports; and 20 hours for final reports.

Estimated Total Annual Burden Hours: 8000.

Estimated Total Annual Cost to Public: $300.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 23, 2002.
Madeleine Clayton,
Departmental Paperwork Clearance Officer, Office of the Chief Information Officer.

[FR Doc. 02-13705 Filed 5-30-02; 8:45 am]

BILLING CODE 3510-22-S